DEPARTMENT OF HEALTH AND HUMAN SERVICES

Centers for Disease Control and Prevention

Advisory Committee on Childhood Lead Poisoning Prevention (ACCLPP)

In accordance with section 10(a)(2) of the Federal Advisory Committee Act (Pub. L. 92-463), the CDC, National Center for Environmental Health (NCEH) announces the following committee meeting:

Dates and Times:

November 16, 2010, 8:30 a.m.-5 p.m.

November 17, 2010, 8:30 a.m.-5 p.m.

November 18, 2010, 8:30 a.m.-12 p.m.

Place: The Westin Atlanta North at Perimeter, Seven Concourse Parkway, Atlanta, Georgia 30328, (770) 395-3900.

Status: This meeting is open to the public, limited only by the space available. The meeting room accommodates approximately 100 people.

Purpose: The Committee provides advice and guidance to the Secretary; the Assistant Secretary for Health; and the Director, CDC, regarding new scientific knowledge and technological developments and their practical implications for childhood lead poisoning prevention efforts. The committee also reviews and reports regularly on childhood lead poisoning prevention practices and recommends improvements in national childhood lead poisoning prevention efforts.

Matters to be Discussed: The agenda will include discussions on: (1) The New York State Childhood Lead Poisoning Program; (2) the Educational Intervention Workgroup; (3) the Laboratory Workgroup; (4) the Consumer Product Workgroup; (5) the National Health and Nutrition Examination Survey (NHANES) Blood Lead Estimate; (6) the Blood Lead Level of “Concern”; (7) Federal agency updates; (8) discussion of CDC recommendations for lead in water; and (9) The Lead in Water Panel: The State of the Science panel discussions.

Opportunities will be provided during the meeting for oral comments.

Agenda items are subject to change as priorities dictate.

For Further Information Contact: Claudine Johnson, Program Operation Assistant, Lead Poisoning Prevention Branch, Division of Environmental Emergency Health Services, NCEH, CDC, 4770 Buford Highway, NE., Mailstop F-60, Atlanta, GA 30341, telephone 770 488-3629, fax 770 488-3635.

The Director, Management Analysis and Services Office has been delegated the authority to sign Federal Register notices pertaining to announcements of meetings and other committee management activities, for both CDC and the Agency for Toxic Substances and Disease Registry.

Dated: October 22, 2010.
Elaine L. Baker,
Director, Management Analysis and Services Office, Centers for Disease Control and Prevention.

[FR Doc. 2010-27365 Filed 10-28-10; 8:45 am]

BILLING CODE 4163-18-P